DEPARTMENT OF DEFENSE

48 CFR Part 252

[DFARS Case 2003-D007]

Defense Federal Acquisition Regulation Supplement; Caribbean Basin Country—Dominican Republic

AGENCY: Department of Defense (DoD).

ACTION: Final rule.

SUMMARY: DoD has issued a final rule amending the Defense Federal Acquisition Regulation Supplement (DFARS) to add the Dominican Republic to the list of Caribbean Basin countries whose products DoD may acquire under the Trade Agreements Act, in accordance with a determination of the United States Trade Representative.

EFFECTIVE DATE: August 21, 2003.

FOR FURTHER INFORMATION CONTACT: Ms. Amy Williams, Defense Acquisition Regulations Council, OUSD(AT&L)DPAP(DAR), IMD 3C132, 3062 Defense Pentagon, Washington, DC 20301-3062. Telephone (703) 602-0328; facsimile (703) 602-0350. Please cite DFARS Case 2003-D007.

SUPPLEMENTARY INFORMATION:

A. Background

This final rule amends the clause at DFARS 252.225-7021, Trade Agreements, to add the Dominican Republic to the definition of “Caribbean Basin country.” The rule implements the direction of the United States Trade Representative to treat the products of the Dominican Republic as eligible products in acquisitions subject to the Trade Agreements Act (68 FR 27883, May 21, 2003).

This rule was not subject to Office of Management and Budget review under Executive Order 12866, dated September 30, 1993.

B. Regulatory Flexibility Act

This rule will not have a significant cost or administrative impact on contractors or offerors, or a significant effect beyond the internal operating procedures of DoD. Therefore, publication for public comment is not required. However, DoD will consider comments from small entities concerning the affected DFARS subpart in accordance with 5 U.S.C. 610. Such comments should cite DFARS Case 2003-D007.

C. Paperwork Reduction Act

The Paperwork Reduction Act does not apply because the rule does not impose any information collection requirements that require the approval of the Office of Management and Budget under 44 U.S.C. 3501, et seq.

List of Subjects in 48 CFR Part 252

Government procurement.

Michele P. Peterson,
Executive Editor, Defense Acquisition Regulations Council.

Therefore, 48 CFR Part 252 is amended as follows:

1. The authority citation for 48 CFR Part 252 continues to read as follows:

Authority: 41 U.S.C. 421 and 48 CFR Chapter 1.

PART 252—SOLICITATION PROVISIONS AND CONTRACT CLAUSES

252.225-7021 [Amended]

2. Section 252.225-7021 is amended as follows:

a. By revising the clause date to read “(AUG 2003)”; and

b. In paragraph (a)(1) by adding, in alphabetical order, “Dominican Republic” to the list of countries.

[FR Doc. 03-21313 Filed 8-20-03; 8:45 am]

BILLING CODE 5001-08-P